DEPARTMENT OF HEALTH AND HUMAN SERVICES

Best Practices for Advancing Cultural Competency, Language Access and Sensitivity toward Asian Americans and Pacific Islanders

Correction

In notice document 2021-15168, appearing on pages 37757-37758 in the issue of Friday, July 16, 2021, make the following correction:

On page 37757, in the third column, on the thirty-sixth line from the top, “minorityhealth@hhs.gov” should read “minorityhealth@hhs.gov.”

[FR Doc. C1-2021-15168 Filed 7-23-21; 8:45 am]

BILLING CODE 0099-10-P